SOCIAL SECURITY ADMINISTRATION

20 CFR Parts 404 and 416

[Docket No. SSA-2011-0094]

Requiring Electronic Filing of Select Appeals by Certain Claimant Representatives

AGENCY: Social Security Administration.

ACTION: Notification of implementation of requirement.

SUMMARY: We are announcing the requirement that appointed representatives file certain appeals using our electronic systems in matters for which the representatives request direct fee payment. This is the first service required under the regulation we published on September 12, 2011 (76 FR 56107), Requiring Use of Electronic Services.

DATES: The effective date of this notification of implementation of requirement is March 16, 2012.

FOR FURTHER INFORMATION CONTACT: Joann S. Anderson, Social Security Administration, Office of Income Security Programs, 6401 Security Boulevard, Baltimore, MD 21235-6401, (410) 965-6716.

For information on eligibility or filing for benefits, call our national toll-free number, 1-(800)-772-1213 or TTY 1-(800)-325-0778, or visit our Internet site, Social Security Online, at http://www.socialsecurity.gov.

SUPPLEMENTARY INFORMATION:

Requiring Electronic Filing of Appeals

On September 12, 2011, we published final rules that require representatives to conduct business with us electronically at the times and in the manner we prescribe on matters for which the representative requests direct fee payment. At the time, we did not require representatives to use any specific electronic service. Rather, in the preamble to the final rule (76 FR 56107), we stated that, “Once we determine that we should make a particular electronic service publicly available because it works well, we will publish a notice in the Federal Register. The notice will contain the new requirement(s) and a list of all established electronic service requirements.” We also said in the preamble that we would adjust the burden for affected Office of Management and Budget (OMB) approved collections before requiring representatives to use the collections' electronic versions. We published a notice on December 1, 2011 (76 FR 74838) concerning the burden adjustment for the affected electronic services under OMB No. 0960-0144, Disability Report-Appeal, OMB No. 0960-0269 (Request for Hearing by Administrative Law Judge), and OMB No. 0960-0622, Request for Reconsideration.

As of March 16, 2012, we will begin mandating electronic filing of certain appeals in each matter in which a representative requests direct payment of the authorized fee. This electronic filing requirement is limited to the filing of a request for reconsideration or for a hearing by an administrative law judge for disability claims under title II of the Social Security Act (Act) or Supplemental Security Income claims based on disability or blindness under title XVI of the Act denied for medical reasons. Representatives must satisfy this electronic filing requirement by using our Internet Appeals web portal: www.socialsecurity.gov.

A representative has an affirmative duty to comply with this requirement. We may investigate to determine if a representative purposefully violated this duty or is attempting to circumvent our rules. We may sanction a representative who does not follow these rules. However, we will not reject or delay a claimant's request or process it differently if a representative fails to comply with this electronic filing requirement.

Claimants, whether they are represented or not, and representatives who are not eligible for or who do not request direct fee payment on a matter, may continue to file all appeal requests either electronically, on paper, or in any manner we prescribe.

Additional Information

Additional information is available on our Representing Claimants Web site at http://www.ssa.gov/representation/ or it can be obtained by writing to: Social Security Administration, Office of Public Inquiries, Windsor Park Building, 6401 Security Boulevard, Baltimore, MD 21235.

(Catalog of Federal Domestic Assistance Program Nos. 96.001, Social Security-Disability Insurance; 96.002, Social Security-Retirement Insurance; 96.004, Social Security-Survivors Insurance; and 96.006, Supplemental Security Income)

Michael J. Astrue,
Commissioner of Social Security.

[FR Doc. 2012-1597 Filed 1-30-12; 8:45 am]

BILLING CODE 4191-02-P